DEPARTMENT OF THE INTERIOR

National Park Service

[NPS-WASO-NAGPRA-19860; PPWOCRADN0-PCU00RP14.R50000]

Notice of Inventory Completion: Tennessee Valley Authority, Knoxville, TN

AGENCY: National Park Service, Interior.

ACTION: Notice.

SUMMARY: The Tennessee Valley Authority has completed an inventory of human remains in consultation with the appropriate federally recognized Indian tribes and has determined that there is no cultural affiliation between the human remains and any present-day federally recognized Indian tribes. Representatives of any federally recognized Indian tribe not identified in this notice that wish to request transfer of control of these human remains should submit a written request to TVA. If no additional requestors come forward, transfer of control of the human remains to the federally recognized Indian tribe stated in this notice may proceed.

DATES: Representatives of any federally recognized Indian tribe not identified in this notice that wish to request transfer of control of these human remains should submit a written request with information in support of the request to Tennessee Valley Authority at the address in this notice by February 8, 2016.

ADDRESSES: Dr. Thomas O. Maher, TVA, 400 West Summit Hill Drive, WT11D, Knoxville, TN 37902-1401, telephone (865) 632-7458, email tomaher@tva.gov.

SUPPLEMENTARY INFORMATION: Notice is hereby given in accordance with Section 5 of the Native American Graves Protection and Repatriation Act (NAGPRA), 25 U.S.C. 3003, of the completion of an inventory of human remains under the control and possession of TVA. The human remains were removed from sites 1LI14 and 1LI37, in Limestone County, Alabama.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Tennessee Valley Authority professional staff in consultation with representatives of the Absentee-Shawnee Tribe of Indians of Oklahoma; Alabama-Coushatta Tribe of Texas; Alabama Quassarte Tribal Town; Cherokee Nation; Coushatta Tribe of Louisiana; Eastern Band of Cherokee Indians; Eastern Shawnee Tribe of Oklahoma; Kialegee Tribal Town; Poarch Band of Creeks (Previously listed as the Poarch Band of Creek Indians of Alabama); The Chickasaw Nation; The Muscogee (Creek) Nation; Thlopthlocco Tribal Town; United Keetoowah Band of Cherokee Indians in Oklahoma; Seminole Nation of Oklahoma; and the Shawnee Tribe.

History and Description of the Remains

In the 1950s, human remains representing, at minimum, one individual were collected by James Cambron, a resident of Decatur, Alabama from site 1LI14, in Limestone County, AL. The human remains were identified as a female between the ages of 20-24. No known individuals were identified. No associated funerary objects are present.

On an unknown date, human remains representing, at minimum, one individual were removed from site 1L114, in Limestone County, AL. These human remains were located during a recent validation of the Tennessee Valley Authority NAGPRA cultural items stored at the University of Alabama. No known individuals were identified. No associated funerary objects are present.

Archaeological site 1LI14 is located on the Tennessee River across from the mouth of Flint creek in Limestone County, Alabama. It is located on the pre-inundation right descending bank of the Tennessee River within the Wheeler Wildlife Refuge. The Alabama state site form describes this site as a truncated pyramidal mound and associated shell mound or village near Decatur, Alabama. The mound is 100 ft. from the river and is 135 ft. long by 80 ft. wide at the base and 90 ft. long by 60 ft. wide at the plateau. The long axis of the mound is parallel to the river. Tennessee Valley Authority purchased the land encompassing this site on June 4, 1935. Although not subject to excavation during the construction of the Wheeler Reservoir, this site is generally believed to have Middle Woodland through Mississippian occupations.

In the 1950s, human remains representing, at minimum, one individual were collected by James Cambron from site 1L137 in Limestone County, AL. The human remains were identified as a 15-year-old of indeterminate gender. Lack of funerary objects makes chronology of these human remains uncertain. No known individuals were identified. No associated funerary objects are present.

Archaeological site 1LI37 is 6.8 miles northeast of 1LI14 on Beaverdam Creek near Interstate 565. It is also within the Wheeler Wildlife Refuge. It was recorded in the Alabama site file in 1978. The University of Alabama recovered one reworked Early Archaic projectile point/knife during shovel testing of the site. An anvil-stone was also recovered. Available evidence suggests this site was occupied sometime during the Archaic period. Tennessee Valley Authority purchased the land intersecting this site on November 6, 1934.

Determinations Made by the Tennessee Valley Authority

Officials of the Tennessee Valley Authority have determined that:

• Pursuant to 25 U.S.C. 3001(9), the human remains described in this notice are Native American based on their presence in prehistoric archeological contexts.

• Pursuant to 25 U.S.C. 3001(9), the human remains described in this notice represent the physical remains of 3 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Cherokee Nation, Eastern Band of Cherokee Indians, and the United Keetoowah Band of Cherokee Indians in Oklahoma. Furthermore, Limestone County was recognized as the aboriginal lands of the Chickasaw Nation in a ratified treaty between the United States and the Chickasaw dated September 20, 1816.

• Pursuant to 43 CFR 10.11(c)(1)(ii), TVA has decided to transfer control of the culturally unidentifiable human remains to the Cherokee Nation, Eastern Band of Cherokee Indians, the United Keetoowah Band of Cherokee Indians in Oklahoma and the Chickasaw Nation.

Additional Requestors and Disposition

Representatives of any federally recognized Indian tribe not identified in this notice that wish to request transfer of control of these human remains should submit a written request with information in support of the request to Dr. Thomas O. Maher, TVA, 400 West Summit Hill Drive, WT11D, Knoxville, TN 37902-1401, telephone (865) 632-7458, email tomaher@tva.gov, by February 8, 2016. After that date, if no additional requestors have come forward, transfer of control of the human remains to the Cherokee Nation, Eastern Band of Cherokee Indians, the United Keetoowah Band of Cherokee Indians in Oklahoma and the Chickasaw Nation may proceed.

Tennessee Valley Authority is responsible for notifying the Absentee-Shawnee Tribe of Indians of Oklahoma; Alabama-Coushatta Tribe of Texas; Alabama Quassarte Tribal Town; Cherokee Nation; Coushatta Tribe of Louisiana; Eastern Band of Cherokee Indians; Eastern Shawnee Tribe of Oklahoma; Kialegee Tribal Town; Poarch Band of Creeks (Previously listed as the Poarch Band of Creek Indians of Alabama); The Chickasaw Nation; The Muscogee (Creek) Nation; Thlopthlocco Tribal Town; United Keetoowah Band of Cherokee Indians in Oklahoma; Seminole Nation of Oklahoma; and the Shawnee Tribe that this notice has been published.

Dated: November 24, 2015.
Amberleigh Malone,
Acting Manager, National NAGPRA Program.

[FR Doc. 2016-00072 Filed 1-6-16; 8:45 am]

BILLING CODE 4312-50-P